DEPARTMENT OF TRANSPORTATION

Maritime Administration

Marine Transportation System National Advisory Council

ACTION: National Advisory Council public meeting.

SUMMARY: The Maritime Administration announces that the Marine Transportation System National Advisory Council (MTSNAC) will hold a meeting to discuss MTS needs, regional MTS outreach and education initiatives, an Action Plan for the MTS, and other issues. A public comment period is scheduled for 8:30 a.m. to 9 a.m. on Wednesday, September 28, 2005. To provide time for as many people to speak as possible, speaking time for each individual will be limited to three minutes. Members of the public who would like to speak are asked to contact Richard J. Lolich by September 20, 2005. Commenters will be placed on the agenda in the order in which notifications are received. If time allows, additional comments will be permitted. Copies of oral comments must be submitted in writing at the meeting. Additional written comments are welcome and must be filed by October 5, 2005.

DATES: The meeting will be held on Tuesday, September 27, 2005, from 1 p.m. to 5 p.m. and Wednesday, September 28, 2005, from 8:30 a.m. to 3 p.m.

ADDRESSES: The meeting will be held in the Peabody Memphis, 149 Union Avenue, Memphis, TN 38103. The hotel's phone number is (901) 529-4000.

FOR FURTHER INFORMATION CONTACT: Richard Lolich, (202) 366-4357; Maritime Administration, MAR-830, Room 7201, 400 Seventh St., SW., Washington, DC 20590; richard.lolich@dot.gov.

Authority: 5 U.S.C. App 2, Sec. 9(a)(2); 41 CFR 101-6. 1005; DOT Order 1120.3B.
Dated: September 7, 2005.
Joel C. Richard,
Secretary, Maritime Administration.

[FR Doc. 05-18032 Filed 9-9-05; 8:45 am]

BILLING CODE 4910-81-P